DEPARTMENT OF THE INTERIOR

Bureau of Land Management

[CO-930-1430-ET; COC-1269; COC-28334]

Public Land Order No. 7461; Partial Revocation of Oil Shale Withdrawals; Colorado

AGENCY: Bureau of Land Management, Interior.

ACTION: Public land order.

SUMMARY: This order partially revokes an Executive order and a public land order insofar as they affect 753.38 acres of public lands withdrawn for the protection of oil shale values. This order also partially revokes the Executive order establishing Naval Oil Shale Reserve No. 3 insofar as it affects 73.38 acres of public land. These revocations will allow for disposal of the lands by exchange. The lands have been and will remain open to mineral leasing. The lands continue to be segregated by an overlapping exchange proposal.

EFFECTIVE DATE: October 10, 2000.

FOR FURTHER INFORMATION CONTACT: Doris E. Chelius, BLM Colorado State Office, 2850 Youngfield Street, Lakewood, Colorado 80215-7093, 303-239-3706.

By virtue of the authority vested in the Secretary of the Interior by Section 204 of the Federal Land Policy and Management Act of 1976, 43 U.S.C. 1714 (1994), it is ordered as follows:

1. Executive Order No. 5327 and Public Land Order No. 4522, which withdrew oil shale deposits and the lands containing such deposits for the protection of oil shale and associated values, are hereby revoked insofar as they affect the following described public land:

Sixth Principal Meridian

T., 4 S., R. 95 W.,

Sec. 22, W½;

Sec. 23, SE¼NW¼ and E½SW¼;

Sec. 34, SW¼.

T. 5 S., R. 95 W.,

Sec. 4, lots 5 and 7.

T. 5 S., R. 96 W.,

Sec. 15, SE¼NE¼.

T. 6 S., R. 96 W.,

Sec. 21, NE¼SW¼.

The areas described aggregate 753.38 acres in Garfield County.

2. The Executive Order dated September 27, 1924, which established Naval Oil Shale Reserve No. 3, is hereby revoked insofar as it affects the following described public lands:

Sixth Principal Meridian

T. 5 S., R. 95 W.,

Sec. 4, lots 5 and 7.

The area described contains 73.38 acres in Garfield County.

3. At 9 a.m. on October 10, 2000, the lands described in Paragraphs l and 2, will be opened to the operation of the public land laws generally, subject to valid existing rights, the provisions of existing withdrawals, other segregations of record, and the requirements of applicable law. All valid applications received at or prior to 9 a.m. on October 10, 2000, shall be considered as simultaneously filed at that time. Those received thereafter shall be considered in the order of filing.

Dated: August 11, 2000.
Sylvia V. Baca,
Assistant Secretary of the Interior.

[FR Doc. 00-22855 Filed 9-6-00; 8:45 am]

BILLING CODE 4310-JB-P